AGENCY FOR INTERNATIONAL DEVELOPMENT

30-Day Notice of Proposed Information Collection: Partner Information Form (PIF)

AGENCY: U.S. Agency for International Development.

ACTION: Notice of request for public comment.

SUMMARY: The U.S. Agency for International Development (USAID) seeks Office of Management and Budget (OMB) approval for the information collection described below. In accordance with the Paperwork Reduction Act of 1995, USAID requests public comment on this collection from all interested individuals and organizations. This proposed information collection was published in the Federal Register on June 17, 2019, allowing for a 60-day public comment period. No comments were received regarding the Federal Register Notice. The purpose of this notice is to allow an additional 30 days for public comment.

DATES: Comments must be received no later than October 7, 2019.

ADDRESSES: You may submit comments by any of the following methods:

1. Email: OIRA_Submission@omb.eop.gov. You must include the form number, title of information collection, and OMB control number in the subject line of your message.

2. Mail, Hand Delivery, or Courier: Desk Officer for USAID, Office of Information and Regulatory Affairs, Office of Management and Budget, 725 17th Street NW, Washington, DC 20503.

FOR FURTHER INFORMATION CONTACT: Direct requests for additional information regarding the collection listed in this notice, including requests for copies of the proposed collection instrument and supporting documents, to Colleen Allen at (202) 712-0378, via email at rulemaking@usaid.gov, or via mail at USAID, Bureau for Management, Office of Management Policy, Budget, and Performance (M/MPBP), 1300 Pennsylvania Avenue NW, Washington, DC

SUPPLEMENTARY INFORMATION:

This agency information collection previously published at 84 FR 28000.

Overview of Information Collection

• Agency: U.S. Agency for International Development (USAID).

• Title of Information Collection: Partner Information Form.

• OMB Control Number: 0412-0577.

• Type of Request: Revision of a Currently Approved Collection.

• Originating Office: Bureau for Management, Office of Management Policy, Budget, and Performance (M/MPBP).

• Form Number: AID 500-13.

• Respondents: Potential awardees and subawardees.

• Estimated Annual Number of Responses: 5,800.

• Average Time per Response: 1 hour 30 minutes.

• Total Estimated Burden Time: 8,700 hours.

• Frequency: On occasion.

• Obligation to Respond: Voluntary.

USAID solicits public comments on the following:

• Evaluate whether the proposed information collection is necessary for the proper functions of the Agency.

• Evaluate the accuracy of our estimate of the time and cost burden for this proposed collection, including the validity of the methodology and assumptions used.

• Enhance the quality, utility, and clarity of the information to be collected.

• Minimize the reporting burden on respondents, including the use of automated collection techniques or other forms of information technology.

Abstract of Proposed Collection

USAID collects information from individuals and organizations to conduct screening to help ensure that USAID funds, USAID-funded activities, or other resources will not be used to provide support to entities or individuals deemed to be a risk to national security.

USAID vets prospective awardees seeking funding from USAID to mitigate the risk that such funds might benefit entities or individuals who present a national security risk. To conduct vetting, USAID collects information from prospective awardees and subawardees regarding their directors, officers, and/or key employees. The information collected is compared to information gathered from commercial, public, and U.S. government databases to determine the risk that the applying organization or individual might use Agency funds or programs in a way that presents a threat to national security.

Methodology

USAID collects information via mail or electronic submission.

Colleen Allen,
Director, Bureau for Management, Office of Management Policy, Budget, and Performance, U.S. Agency for International Development.

[FR Doc. 2019-19210 Filed 9-5-19; 8:45 am]

BILLING CODE P